DEPARTMENT OF COMMERCE

National Oceanic and Atmospheric Administration

RIN 0648-XG083

New England Fishery Management Council; Public Meeting

AGENCY: National Marine Fisheries Service (NMFS), National Oceanic and Atmospheric Administration (NOAA), Commerce.

ACTION: Notice of public meeting via webinar.

SUMMARY: The New England Fishery Management Council's is convening an ad-hoc sub-panel of its Scientific and Statistical Committee to peer review two reports.

DATES: This webinar will be held on Friday, March 30, 2018 at 1:30 p.m. Webinar registration URL information: https://attendee.gotowebinar.com/register/7860925786623688961. Call in information: +1 (951) 384-3421, Attendee Access Code: 937-123-775.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The New England Fishery Management Council (Council) is convening an ad-hoc sub-panel of its Scientific and Statistical Committee to peer review two reports. These reports are:

• Powell, Eric N., Kelsey Kuykendall, and Paula Moreno. Analysis of ancillary survey data and surfclam fishery tow data for the Georges Shoals Habitat Management Area on Georges Bank and the Great South Channel Habitat Management Area. Science Center for Marine Fisheries, August 2016. 29p.

• Powell, Eric N., Roger Mann, Kelsey M. Kuykendall, M. Chase Long, and Jeremy Timbs. The “East of Nantucket” Survey. Science Center for Marine Fisheries, February 2018. 33p.

The Council plans to use the results of these studies to support decision making in a fishery management plan framework adjustment. The Council is seeking advice from peer reviewers about how the data and conclusions from the two studies might be used to support development and evaluation of alternatives to consider possible exemption areas for hydraulic clam dredge gear within the newly designated Great South Channel habitat management area. This 748 nm² management area overlaps Nantucket Shoals, and is located approximately 12 nm southeast of Cape Cod, Massachusetts, and 6 nm east of Nantucket Island. The reports summarize hydraulic dredge survey information for the habitat management area, including catches of clams and clam shells as well as other components of the seafloor substrate. Other business will be discussed as needed.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 7, 2018.
Tracey L. Thompson,
Acting Deputy Director, Office of Sustainable Fisheries, National Marine Fisheries Service.

[FR Doc. 2018-04865 Filed 3-9-18; 8:45 am]

BILLING CODE 3510-22-P